DEPARTMENT OF HOUSING AND URBAN DEVELOPMENT

[Docket No. FR-5186-N-03]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Headquarters, Department of the Army, Office of the Assistant Chief of Staff for Installation Management, Attn: DAIM-ZS, Rm. 8536, 2511 Jefferson Davis Hwy., Arlington, VA 22202; (703) 601-2545; Energy: Mr. John Watson, Department of Energy, Office of Engineering & Construction Management, ME-90, 1000 Independence Ave, SW., Washington, DC 20585: (202) 586-0072; GSA: Mr. John Smith, Deputy Assistant Commissioner, General Services Administration, Office of Property Disposal, 18th & F Streets, NW., Washington, DC 20405; (202) 501-0084; Navy: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: January 10, 2008.
Mark R. Johnston,
Deputy Assistant Secretary for Special Needs.

Title V, Federal Surplus Property Program—Federal Register Report

Suitable/Available Properties

Building

Alaska

Bldg. 00105.

Ft. Richardson.

Ft. Richardson, AK.

Landholding Agency: Army.

Property Number: 21200740040.

Status: Excess.

Comments: 4992 sq. ft., most recent use—housing, off-site use only.

4 Bldgs.

Ft. Richardson.

00112, 00113, 00114, 00115.

Ft. Richardson, AK.

Landholding Agency: Army.

Property Number: 21200740041.

Status: Excess.

Comments: 5184 sq. ft., most recent use—housing, off-site use only.

Bldgs. 00120, 00129.

Ft. Richardson.

Ft. Richardson, AK.

Landholding Agency: Army.

Property Number: 21200740042.

Status: Excess.

Comments: 4766 sq. ft., most recent use—housing, off-site use only.

Suitable/Available Properties

Building

Alaska

Bldg. 00136.

Ft. Richardson.

Ft. Richardson, AK.

Landholding Agency: Army.

Property Number: 21200740043.

Status: Excess.

Comments: 2383 sq. ft., most recent use—housing, off-site use only.

Bldgs. 00139, 00148.

Ft. Richardson.

Ft. Richardson, AK.

Landholding Agency: Army.

Property Number: 21200740044.

Status: Excess.

Comments: 4766 sq. ft., most recent use—housing, off-site use only.

6 Bldgs.

Ft. Richardson.

00366, 00367, 00369, 00371, 00372, 00373.

Ft. Richardson AK.

Landholding Agency: Army.

Property Number: 21200740045.

Status: Excess.

Comments: 13743/12642 sq. ft., most recent use—housing, off-site use only.

Bldgs. 00392, 00394.

Ft. Richardson.

Ft. Richardson, AK.

Landholding Agency: Army.

Property Number: 21200740046.

Status: Excess.

Comments: 18496 sq. ft., most recent use—housing, off-site use only.

Suitable/Available Properties

Building

Alaska

6 Bldgs.

Ft. Richardson.

00413, 00414, 00415, 00416, 00417, 00418.

Ft. Richardson, AK.

Landholding Agency: Army.

Property Number: 21200740047.

Status: Excess.

Comments: 13056 sq. ft., most recent use—housing, off-site use only.

6 Bldgs.

Ft. Richardson.

00424, 00425, 00427, 00428, 00429, 00431.

Ft. Richardson, AK.

Landholding Agency: Army.

Property Number: 21200740048.

Status: Excess.

Comments: 13056 sq. ft., most recent use—housing, off-site use only.

Arkansas

7 Bldgs.

Pine Bluff Arsenal.

Jefferson, AR 71602.

Landholding Agency: Army.

Property Number: 21200740176.

Status: Unutilized.

Directions: 12300, 12302, 12304, 12306, 12308, 12310, 12312.

Comments: 2400 sq. ft., major repairs, lead base paint abatement required, most recent use housing, off-site use only.

Suitable/Available Properties

Building

Arkansas

Bldgs. 13700 thru 13709.

Pine Bluff Arsenal.

Jefferson, AR 71602.

Landholding Agency: Army.

Property Number: 21200740177.

Status: Unutilized.

Comments: 2328 sq. ft., major repairs, lead base paint abatement required, most recent use housing, off-site use only.

California

Bldg. 07180.

Moffett Field.

Santa Clara, CA 94035.

Landholding Agency: Army.

Property Number: 21200740049.

Status: Unutilized.

Comments: 10256 sq. ft., presence of asbestos/lead paint, most recent use—housing, off-site use only.

Bldgs. 5, 6, 7.

Bell AFRC.

Bell, CA 90201.

Landholding Agency: Army.

Property Number: 21200740050.

Status: Unutilized.

Comments: 198,000 sq. ft., warehouses, presence of asbestos/lead paint, need major repairs, off-site use only

Suitable/Available properties

Building

California

Defense Fuel Support Pt.

Estero Bay Facility.

Morro Bay, CA 93442,

Landholding Agency: GSA.

Property Number: 54200810001.

Status: Surplus.

GSA Number: 9-N-CA-1606.

Comments: Former 10 acre fuel tank farm w/associated bldgs/pipelines/equipment, possible asbestos/PCBs.

Colorado

Cabins 1, 2, 4.

Gunnison National Forrest.

Grand Junction, CO.

Landholding Agency: GSA.

Property Number: 54200810002.

Status: Surplus.

GSA Number: 7-A-CO-0668.

Comments: 424-1685 sq. ft., off-site use only.

Georgia

4 Bldgs.

Fort Benning.

8642, 8643, 8649, 8656.

Ft. Benning, GA 31905.

Landholding Agency: Army.

Property Number: 21200740051.

Status: Unutilized.

Comments: various sq. ft., most recent use—range support facility, off-site use only.

Suitable/Available Properties

Building

Georgia

Bldg. 00100.

Hunter Army Airfield.

Chatham, GA 31409.

Landholding Agency: Army.

Property Number: 21200740052.

Status: Excess.

Comments: 10893 sq. ft., most recent use—battalion hdqts., off-site use only.

Bldg. 00129.

Hunter Army Airfield.

Chatham, GA 31409.

Landholding Agency: Army.

Property Number: 21200740053.

Status: Excess.

Comments: 4815 sq. ft., presence of asbestos, most recent use—religious education facility, off-site use only.

Bldg. 00145.

Hunter Army Airfield.

Chatham, GA 31409.

Landholding Agency: Army.

Property Number: 21200740054.

Status: Excess.

Comments: 11590 sq. ft., presence of asbestos, most recent use—post chapel, off-site use only.

Bldg. 00811.

Hunter Army Airfield.

Chatham, GA 31409.

Landholding Agency: Army.

Property Number: 21200740055.

Status: Excess.

Comments: 42853 sq. ft., most recent use—co hq bldg, off-site use only.

Suitable/Available Properties

Building

Georgia

Bldg. 00812.

Hunter Army Airfield.

Chatham, GA 31409.

Landholding Agency: Army.

Property Number: 21200740056.

Status: Excess.

Comments: 1080 sq. ft., most recent use—power plant, off-site use only.

Bldg. 00850.

Hunter Army Airfield.

Chatham, GA 31409.

Landholding Agency: Army.

Property Number: 21200740057.

Status: Excess.

Comments: 108,287 sq. ft., presence of asbestos, most recent use—aircraft hangar, off-site use only.

Bldg. 00860.

Hunter Army Airfield.

Chatham, GA 31409.

Landholding Agency: Army.

Property Number: 21200740058.

Status: Excess.

Comments: 10679 sq. ft., presence of asbestos, most recent use—maint. hangar, off-site use only.

Bldg. 01028, Hunter Army Airfield.

Chatham, GA 31409.

Landholding Agency: Army.

Property Number: 21200740059.

Status: Excess.

Comments: 870 sq ft., most recent use—storage, off-site use only.

Suitable/Available Properties

Building

Georgia

Bldg. 00955.

Fort Stewart.

Hinesville, GA 31314.

Landholding Agency: Army.

Property Number: 21200740060.

Status: Excess.

Comments: 120 sq. ft., most recent use—storage, off-site use only.

Bldg. 00957.

Fort Stewart.

Hinesville, GA 31314.

Landholding Agency: Army.

Property Number: 21200740061.

Status: Excess.

Comments: 6072 sq. ft., most recent use—recycling facility, off-site use only.

Bldg. 00971.

Fort Stewart.

Hinesville, GA 31314.

Landholding Agency: Army.

Property Number: 21200740062.

Status: Excess.

Comments: 4000 sq. ft., most recent use—vehicle maint., off-site use only.

Bldg. 01015.

Fort Stewart.

Hinesville, GA 31314.

Landholding Agency: Army.

Property Number: 21200740063.

Status: Excess.

Comments: 7496 sq. ft., most recent use—storage, off-site use only.

Suitable/Available Properties

Building

Georgia

Bldg. 01209.

Fort Stewart.

Hinesville, GA 31314.

Landholding Agency: Army.

Property Number: 21200740064.

Status: Excess.

Comments: 4786 sq. ft., presence of asbestos, most recent use—vehicle maint., off-site use only.

Bldg. 07335.

Fort Stewart.

Hinesville, GA 31314.

Landholding Agency: Army.

Property Number: 21200740065.

Status: Excess.

Comments: 4400 sq. ft., most recent use—chapel, off-site use only.

Bldg. 245.

Fort Benning.

Ft. Benning, GA 31905.

Landholding Agency: Army.

Property Number: 21200740178.

Status: Unutilized.

Comments: 1102 sq. ft., most recent use—fld ops, off-site use only.

Bldg. 2580.

Fort Benning.

Ft. Benning, GA 31905.

Landholding Agency: Army.

Property Number: 21200740179.

Status: Unutilized.

Comments: 1943 sq. ft., most recent use—org. str., off-site use only.

Suitable/Available Properties

Building

Georgia

Bldg. 2748.

Fort Benning.

Ft. Benning, GA 31905.

Landholding Agency: Army.

Property Number: 21200740180.

Status: Unutilized.

Comments: 3990 sq. ft., most recent use—office, off-site use only.

Bldg. 3819.

Fort Benning.

Ft. Benning, GA 31905.

Landholding Agency: Army.

Property Number: 21200740181.

Status: Unutilized.

Comments: 4241 sq. ft., most recent use—gen. str., off-site use only.

Bldg. 3866

Fort Benning

Ft. Benning, GA 31905.

Landholding Agency: Army.

Property Number: 21200740182.

Status: Unutilized.

Comments: 944 sq. ft., most recent use—office, off-site use only.

Bldg. 8682.

Fort Benning.

Ft. Benning, GA 31905.

Landholding Agency: Army.

Property Number: 21200740183.

Status: Unutilized.

Comments: 780 sq. ft., most recent use—admin., off-site use only.

Suitable/Available Properties

Building

Georgia

Bldg. 10800.

Fort Benning.

Ft. Benning, GA 31905.

Landholding Agency: Army.

Property Number: 21200740184.

Status: Unutilized.

Comments: 16,628 sq. ft., off-site use only.

Bldgs. 11302, 11303, 11304.

Fort Benning.

Ft. Benning, GA 31905.

Landholding Agency: Army.

Property Number: 21200740185.

Status: Unutilized.

Comments: Various sq. ft., most recent use—ACS center, off-site use only.

Illinois

Bldgs. 634, 639.

Fort Sheridan.

Ft. Sheridan, IL 60037.

Landholding Agency: Army.

Property Number: 21200740186.

Status: Unutilized.

Comments: 3731/3706 sq. ft., most recent use—classroom/storage, off-site use only.

Suitable/Available Properties

Building

Kansas

Bldg. 00393.

Fort Leavenworth.

Leavenworth, KS.

Landholding Agency: Army.

Property Number: 21200740066.

Status: Unutilized.

Comments: 63 sq. ft., most recent use—maint. facility, off-site use only.

Bldg. 00423.

Fort Leavenworth.

Leavenworth, KS 66027.

Landholding Agency: Army.

Property Number: 21200740067.

Status: Unutilized.

Comments: 8200 sq. ft., most recent use—maint. facility, off-site use only.

Bldg. 00426.

Fort Leavenworth.

Leavenworth, KS 66027.

Landholding Agency: Army.

Property Number: 21200740068.

Status: Unutilized.

Comments: 480 sq. ft., most recent use—dog kennel, off-site use only.

Bldg. 00449.

Fort Leavenworth.

Leavenworth, KS 66027.

Landholding Agency: Army.

Property Number: 21200740069.

Status: Unutilized.

Comments: 997 sq. ft., most recent use—access control, off-site use only.

Suitable/Available Properties

Building

South Dakota

Bldg. 03001.

Jonas H. Lien AFRC.

Sioux Falls, SD 57104.

Landholding Agency: Army.

Property Number: 21200740187.

Status: Unutilized.

Comments: 33282 sq. ft., most recent use—training center.

Bldg. 03003.

Jonas H. Lien AFRC.

Sioux Falls, SD 57104.

Landholding Agency: Army.

Property Number: 21200740188.

Status: Unutilized.

Comments: 4675 sq. ft., most recent use—vehicle maint. Shop.

Texas

Bldg. 04249.

Fort Hood.

Bell, TX 76544.

Landholding Agency: Army.

Property Number: 21200740080.

Status: Excess.

Comments: 2741 sq. ft., presence of asbestos, most recent use—admin, off-site use only.

Bldg. 06987.

Fort Hood.

Bell, TX 76544.

Landholding Agency: Army.

Property Number: 21200740090.

Status: Excess.

Comments: 192 sq. ft., presence of asbestos, most recent use—access control, off-site use only.

Suitable/Available Properties

Building

Texas

5 Bldgs.

Fort Hood.

Bell, TX 76544.

Landholding Agency: Army.

Property Number: 21200740195.

Status: Excess.

Directions: 56541, 56546, 56547, 56548, 56638.

Comments: 1120/1133 sq. ft., presence of asbestos, most recent use—lavatory, off-site use only.

Utah

Bldg. 00001.

Borgstrom Hall USARC.

Ogden, UT 84401.

Landholding Agency: Army.

Property Number: 21200740196.

Status: Excess.

Comments: 16543 sq. ft., most recent use—training center, off-site use only.

Bldg. 00002.

Borgstrom Hall USARC.

Ogden, UT 84401.

Landholding Agency: Army.

Property Number: 21200740197.

Status: Excess.

Comments: 3842 sq. ft., most recent use—vehicle maint. shop, off-site use only.

Suitable/Available Properties

Building

Utah

Bldg. 00005.

Borgstrom Hall USARC.

Ogden, UT 84401.

Landholding Agency: Army.

Property Number: 21200740198.

Status: Excess.

Comments: 96 sq. ft., most recent use—storage, off-site use only.

Wisconsin

Bldg. 05018.

Fort McCoy.

Monroe, WI 54656.

Landholding Agency: Army.

Property Number: 21200740199.

Status: Unutilized.

Comments: 192 sq. ft., most recent use—wellhouse, off-site use only.

Bldgs. 07012, 07022, 07033.

Fort McCoy.

Monroe, WI 54656.

Landholding Agency: Army.

Property Number: 21200740200.

Status: Unutilized.

Comments: 384 sq. ft., most recent use—garage, off-site use only.

Suitable/Unavailable Properties

Building

Texas

Bldg. 1345.

Fort Hood.

Bell, TX 76544.

Landholding Agency: Army.

Property Number: 21200740070.

Status: Excess.

Comments: 240 sq. ft., presence of asbestos, most recent use—oil storage, off-site use only.

Bldgs. 1348, 1941.

Fort Hood.

Bell, TX 76544.

Landholding Agency: Army.

Property Number: 21200740071.

Status: Excess.

Comments: 640/900 sq. ft., presence of asbestos, most recent use—admin., off-site use only.

Bldg. 1919.

Fort Hood.

Bell, TX 76544.

Landholding Agency: Army.

Property Number: 21200740072.

Status: Excess.

Comments: 80 sq. ft., presence of asbestos, most recent use—pump station, off-site use only.

Bldg. 1943.

Fort Hood.

Bell, TX 76544.

Landholding Agency: Army.

Property Number: 21200740073.

Status: Excess.

Comments: 780 sq. ft., presence of asbestos, most recent use—rod & gun club, off-site use only.

Suitable/Unavailable Properties

Building

Texas

Bldg. 1946.

Fort Hood.

Bell, TX 76544.

Landholding Agency: Army.

Property Number: 21200740074.

Status: Excess.

Comments: 2880 sq. ft., presence of asbestos, most recent us—storage, off-site use only.

Bldg. 4205.

Fort Hood.

Bell, TX 76544.

Landholding Agency: Army.

Property Number: 21200740075.

Status: Excess.

Comments: 600 sq. ft., presence of asbesos, most recent use—storage, off-site use only.

Bldg. 4207.

Fort Hood.

Bell, TX 76544.

Landholding Agency: Army.

Property Number: 21200740076.

Status: Excess.

Comments: 2240 sq. ft., presence of asbestos, most recent use—maint. shop, off-site use only.

Bldg. 4208.

Fort Hood.

Bell, TX 76544.

Landholding Agency: Army.

Property Number: 21200740077.

Status: Excess.

Comments: 9464 sq. ft., presence of asbestos, most recent use—warehouse, off-site use only.

Suitable/Unavailable Properties

Building

Texas

Bldgs. 4210, 4211, 4216.

Fort Hood.

Bell, TX 76544.

Landholding Agency: Army.

Property Number: 21200740078.

Status: Excess.

Comments: 4625/5280 sq. ft., presence of asbestos, most recent use—maint., off-site use only.

Bldg. 4219A.

Fort Hood.

Bell, TX 76544.

Landholding Agency: Army.

Property Number: 21200740079.

Status: Excess.

Comments: 446 sq. ft., presence of asbestos, most recent use—storage, off-site use only.

Bldg. 04252.

Fort Hood.

Bell, TX 76544.

Landholding Agency: Army

Property Number: 21200740081

Status: Excess.

Comments: 9000 sq. ft., presence of asbestos, most recent use—storage, off-site use only.

Bldg. 4255.

Fort Hood.

Bell, TX 76544.

Landholding Agency: Army.

Property Number: 21200740082.

Status: Excess.

Comments: 448 sq ft., presence of asbestos, off-site use only.

Suitable/Unavailable Properties

Building

Texas

Bldg. 04480.

Fort Hood.

Bell, TX 76544.

Landholding Agency: Army

Property Number: 21200740083

Status: Excess.

Comments: 2700 sq. ft., presence of asbestos, most recent use—storage, off-site use only.

Bldg. 04485.

Fort Hood.

Bell, TX 76544.

Landholding Agency: Army.

Property Number: 21200740084.

Status: Excess.

Comments: 640 sq. ft., presence of asbestos, most recent use—maint., off-site use only.

Bldgs. 04487, 04488.

Fort Hood.

Bell, TX 76544.

Landholding Agency: Army.

Property Number: 21200740085.

Status: Excess.

Comments: 48/80 sq. ft., presence of asbestos, most recent use—utility bldg., off-site use only.

Bldg. 04489.

Fort Hood.

Ft. Hood, TX 76544.

Landholding Agency: Army.

Property Number: 21200740086.

Status: Excess.

Comments: 880 sq. ft., presence of asbestos, most recent use—admin., off-site use only.

Suitable/Unavailable Properties

Building

Texas

Bldgs. 4491, 4492.

Fort Hood.

Bell, TX 76544.

Landholding Agency: Army.

Property Number: 21200740087.

Status: Excess.

Comments: 3108/1040 sq. ft., presence of asbestos, most recent use—maint., off-site use only.

Bldgs. 04902, 04905.

Fort Hood, Bell, TX 76544.

Landholding Agency: Army.

Property Number: 21200740088.

Status: Excess.

Comments: 2575/6136 sq. ft., presence of asbestos, most recent use—vet bldg., off-site use only.

Bldgs. 04914, 04915, 04916.

Fort Hood.

Bell, TX 76544.

Landholding Agency: Army.

Property Number: 21200740089.

Status: Excess.

Comments: 371 sq. ft., presence of asbestos, most recent use—animal shelter, off-site use only.

Bldg. 20102.

Fort Hood.

Bell, TX 76544.

Landholding Agency: Army.

Property Number: 21200740091.

Status: Excess.

Comments: 252 sqa. ft., presence of asbestos, most recent use—recreation services, off-site use only.

Suitable/Unavailable Properties

Building

Texas

Bldg. 20118.

Fort Hood.

Bell, TX 76544.

Landholding Agency: Army.

Property Number: 21200740092.

Status: Excess.

Comments: 320 sq. ft., presence of asbestos, most recent use—maint.,off-site use only.

Bldg. 29027.

Fort Hood.

Bell, TX 76544.

Landholding Agency: Army.

Property Number: 21200740093.

Status: Excess.

Comments: 2240 sq. ft., presence of asbestos, most recent use—hdqts bldg, off-site use only.

Bldg. 56017.

Fort Hood.

Bell, TX 76544.

Landholding Agency: Army.

Property Number: 21200740094.

Status: Excess.

Comments: 2592 sq. ft., presence of asbestos, most recent use—admin., off-site use only.

Bldg. 56202.

Fort Hood.

Bell, TX 76544.

Landholding Agency: Army.

Property Number: 21200740095.

Status: Excess.

Comments: 1152 sq. ft., presence of asbestos, most recent use—training, off-site use only.

Suitable/ Unavailable Properties

Building

Texas

Bldg. 56224.

Fort Hood.

Bell, TX 76544.

Landholding Agency: Army.

Property Number: 21200740096.

Status: Excess.

Comments: 80 sq. ft., presence of asbestos, off-site use only.

Bldg. 56305.

Fort Hood.

Bell, TX 76544.

Landholding Agency: Army.

Property Number: 21200740097.

Status: Excess.

Comments: 2160 sq. ft., presence of asbestos, most recent use—admin., off-site use only.

Bldg. 56311.

Fort Hood.

Bell, TX 76544.

Landholding Agency: Army.

Property Number: 21200740098.

Status: Excess.

Comments: 480 sq. ft., presence of asbestos, most recent use—laundry, off-site use only.

Bldg. 56327.

Fort Hood.

Bell, TX 76544.

Landholding Agency: Army.

Property Number: 21200740099.

Status: Excess.

Comments: 6000 sq. ft., presence of asbestos, most recent use—admin., off-site use only.

Suitable/Unavailable Properties

Building

Texas

Bldg. 56329.

Fort Hood.

Bell, TX 76544.

Landholding Agency: Army.

Property Number: 21200740100.

Status: Excess.

Comments: 2080 sq. ft., presence of asbestos, most recent use—officers qtrs., off-site use only.

9 Bldgs.

Fort Hood.

Bell, TX 76544.

Landholding Agency: Army.

Property Number: 21200740101.

Status: Excess.

Directions: 56526, 56527, 56528, 56530, 56531, 56536, 56537, 56538, 56540.

Comments: Various sq. ft., presence of asbestos, most recent use—lavatory, off-site use only.

Bldg. 92043.

Fort Hood.

Bell, TX 76544.

Landholding Agency: Army.

Property Number: 21200740102.

Status: Excess.

Comments: 450 sq. ft., presence of asbestos, most recent use—storage, off-site use only.

Suitable/Unavailable Properties

Building

Texas

Bldg. 92072.

Fort Hood.

Bell, TX 76544.

Landholding Agency: Army.

Property Number: 21200740103.

Status: Excess.

Comments: 2400 sq. ft., presence of asbestos, most recent use—admin., off-site use only.

Bldg. 92083.

Fort Hood.

Bell, TX 76544.

Landholding Agency: Army.

Property Number: 21200740104.

Status: Excess.

Comments: 240 sq. ft., presence of asbestos, most recent use—utility bldg., off-site use only.

Bldgs. 04213, 04227.

Fort Hood.

Bell, TX 76544.

Landholding Agency: Army.

Property Number: 21200740189.

Status: Excess.

Comments: 14183/10500 sq. ft., presence of asbestos, most recent use—admin., off-site use only.

Bldg.4404.

Fort Hood.

Bell, TX 76544.

Landholding Agency: Army.

Property Number: 21200740190.

Status: Excess.

Comments: 8043 sq ft., presence of asbestos, most recent use—training bldg., off-site use only.

Suitable/Unavailable Properties

Building

Texas

Bldg. 56607.

Fort Hood.

Bell, TX 76544.

Landholding Agency: Army.

Property Number: 21200740191.

Status: Excess.

Comments: 3552 sq. ft., presence of asbestos, most recent use—chapel, off-site use only.

Bldg. 91041.

Fort Hood.

Bell, TX 76544.

Landholding Agency: Army.

Property Number: 21200740192.

Status: Excess.

Comments: 1920 sq. ft., presence of asbestos, most recent use—shed, off-site use only.

5 Bldgs.

Fort Hood.

93010, 93011, 93012, 93014.

Bell, TX 76544.

Landholding Agency: Army.

Property Number: 21200740193.

Status: Excess.

Comments: 210/800 sq. ft., presence of asbestos, most recent use—private club, off-site use only.

Bldg. 94031.

Fort Hood.

Bell, TX 76544.

Landholding Agency: Army.

Property Number: 21200740194.

Status: Excess.

Comments: 1008 sq. ft., presence of asbestos, most recent use—training, off-site use only.

Unsuitable Properties

Building

Maine

Bldg. 93.

Portsmouth Naval Shipyard.

Kittery, ME 03804.

Landholding Agency: Navy.

Property Number: 77200810001.

Status: Unutilized.

Reasons: Extensive deterioration. Secured Area.

South Carolina

Facility 151-1R,

Savannah River Site,

Aiken, SC 29802.

Landholding Agency: Energy.

Property Number: 41200810001.

Status: Underutilized.

Reasons: Secured Area.

Unsuitable Properties

Building

Virginia

Bldgs. 375, 502, 502A.

Naval Weapons Station.

Yorktown, VA 23691.

Landholding Agency: Navy.

Property Number: 77200810002.

Status: Excess.

Reasons: Extensive deterioration. Secured Area.

Bldgs. 503, 503A, 504.

Naval Weapons Station.

Yorktown, VA 23691.

Landholding Agency: Navy.

Property Number: 77200810003.

Status: Excess.

Reasons: Extensive deterioration. Secured Area.

Bldgs. 505, 505A.

Naval Weapons Station.

Yorktown, VA 23691.

Landholding Agency: Navy.

Property Number: 77200810004.

Status: Excess.

Reasons: Secured Area. Extensive deterioration.

Unsuitable Properties

Building

Virginia

Bldgs. 1213, 1979.

Naval Weapons Station.

Yorktown, VA 23691.

Landholding Agency: Navy.

Property Number: 77200810005.

Status: Excess.

Reasons: Secured Area. Extensive deterioration.

Bldgs. 2007, 2008.

Naval Weapons Station.

Yorktown, VA 23691.

Landholding Agency: Navy.

Property Number: 77200810006.

Status: Excess.

Reasons: Extensive deterioration. Secured Area.

Land

Oregon

0.66 acre.

Kingsley Field.

Klamath Falls, OR 97601.

Landholding Agency: GSA.

Property Number: 54200810003.

Status: Excess.

GSA Number: 9-GR-OR-728D.

Reasons: Within 2000 ft. of flammable or explosive material.

[FR Doc. E8-665 Filed 1-17-08; 8:45 am]

BILLING CODE 4210-67-P